ENVIRONMENTAL PROTECTION AGENCY

40 CFR Part 49

[EPA-R01-OAR-2009-0305; A-1-FRL-8949-7]

Approval and Promulgation of Air Quality Implementation Plans; Mohegan Tribe of Indians of Connecticut

AGENCY: Environmental Protection Agency (EPA).

ACTION: Proposed rule.

SUMMARY: EPA is proposing to approve a Tribal Implementation Plan (“TIP”) submitted by the Mohegan Tribe of Indians of Connecticut (“the Tribe”). This revision adds new emission units to the Tribe's TIP, while maintaining an enforceable cap on nitrogen oxide emissions from stationary sources owned by the Mohegan Tribal Gaming Authority and located within the external boundaries of the Mohegan Reservation. The revision also provides the Administrator of The Mohegan Environmental Protection Department with enforcement authority for violations of the Mohegan TIP and establishes a right of appeal to the Director of Regulation and Compliance and the Mohegan courts. This action is intended to help attain the National Ambient Air Quality Standards (NAAQS) for ground-level ozone. This action is being taken in accordance with the Clean Air Act.

DATES: Written comments must be received on or before October 28, 2009.

ADDRESSES: Submit your comments, identified by Docket ID No. EPA-R01-OAR-2009-0305 by one of the following methods:

1. http://www.regulations.gov: Follow the on-line instructions for submitting comments.

2. E-mail: mcdonnell.ida@epa.gov

3. Fax: (617) 918-1653

4. Mail: “EPA-R01-OAR-2009-0305”, Ida McDonnell, U.S. Environmental Protection Agency, EPA New England Regional Office, One Congress Street, Suite 1100 (mail code CAP), Boston, MA 02114-2023.

5. Hand Delivery or Courier. Deliver your comments to: Ida McDonnell, Air Permits, Toxics and Indoor Air Unit, Office of Ecosystem Protection, U.S. Environmental Protection Agency, EPA New England Regional Office, One Congress Street, 11th floor, (CAP), Boston, MA 02114-2023. Such deliveries are only accepted during the Regional Office's normal hours of operation. The Regional Office's official hours of business are Monday through Friday, 8:30 to 4:30, excluding legal holidays.

Please see the direct final rule which is located in the Rules Section of this Federal Register for detailed instructions on how to submit comments.

FOR FURTHER INFORMATION CONTACT: Ida E. McDonnell, Air Permits, Toxics and Indoor Air Unit, Office of Ecosystem Protection, U.S. Environmental Protection Agency, EPA New England Regional Office, One Congress Street, 11th floor, (CAP), Boston, MA 02114-2023, telephone number (617) 918-1653, fax number (617) 918-0653, e-mail mcdonnell.ida@epa.gov

SUPPLEMENTARY INFORMATION: In the Final Rules Section of this Federal Register, EPA is approving the Tribe's TIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: August 13, 2009.
Ira Leighton,
Acting Regional Administrator, EPA New England.

[FR Doc. E9-23262 Filed 9-25-09; 8:45 am]

BILLING CODE 6560-50-P